Title 3—

The President

Proclamation 10322 of December 9, 2021

Amending Proclamation 10320, Death of Robert J. Dole

By the President of the United States of America

A Proclamation

By the authority vested in me as President of the United States by the Constitution and the laws of the United States of America, and in order to extend the display of the flag at half-staff as a mark of respect for Robert Joseph Dole, it is hereby ordered that Proclamation 10320 of December 5, 2021, is amended by deleting in the first sentence the words “until sunset on December 9, 2021” and inserting in their place the words “through Saturday, December 11.”

IN WITNESS WHEREOF, I have hereunto set my hand this ninth day of December, in the year of our Lord two thousand twenty-one, and of the Independence of the United States of America the two hundred and forty-sixth.

[FR Doc. 2021-27379

Filed 12-15-21; 8:45 am]

Billing code 3395-F2-P